DEPARTMENT OF ENERGY

Federal Energy Regulatory Commission

[Docket No. CP03-5-001]

National Fuel Gas Supply Corporation; Notice of Compliance Filing

March 18, 2003.

Take notice that on March 13, 2003, National Fuel Gas Supply Corporation (National Fuel) tendered for filing as part of its FERC Gas Tariff, Fourth Revised Volume No. 1, Third Revised Sheet No. 46 and Second Revised Sheet No. 55, with a proposed effective date of April 12, 2003.

National Fuel states that the filing is made to modify its Operating Protocol for EFT service to reflect the impact of the abandonment of Line C in Docket No. CP03-5-000, which occurred on March 1, 2003.

National Fuel states that copies of this filing were served upon its customers, interested state commissions and the parties on the official service list compiled by the Secretary in this proceeding.

Any person desiring to protest said filing should file a protest with the Federal Energy Regulatory Commission, 888 First Street, NE., Washington, DC 20426, in accordance with section 385.211 of the Commission's Rules and Regulations. All such protests must be filed on or before March 25, 2003. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Magalie R. Salas,
Secretary.

[FR Doc. 03-7037 Filed 3-24-03; 8:45 am]

BILLING CODE 6717-01-P